DEPARTMENT OF TRANSPORTATION

National Highway Traffic Safety Administration

49 CFR Parts 523, 531, 533, 534, 536 and 537

[Docket No. NHTSA-2008-0060]

Notice of Availability of a Draft Environmental Impact Statement (DEIS) for New Corporate Average Fuel Economy Standards; Notice of Public Hearing

AGENCY: National Highway Traffic Safety Administration (NHTSA), Department of Transportation (DOT).

ACTION: Notice of availability of a draft environmental impact statement (DEIS); notice of public hearing.

SUMMARY: NHTSA has prepared a Draft Environmental Impact Statement (DEIS) to disclose and analyze the potential environmental impacts of proposed Corporate Average Fuel Economy (CAFE) standards for model year (MY) 2011-2015 passenger cars and light trucks, which NHTSA recently proposed pursuant to the Energy Independence and Security Act of 2007, and a reasonable range of alternative standards. To inform decisionmakers and the public, the DEIS compares the potential environmental impacts of the proposed standards and alternative standards reflecting a full range of stringencies, and it analyzes direct, indirect, and cumulative impacts in proportion to their significance. The DEIS provides a detailed analysis of potential impacts on energy resources, air quality, and climate. The DEIS uses climate modeling and NHTSA's own computer model to provide quantitative estimates of potential impacts on air quality, carbon dioxide (CO2) emissions, global mean surface temperature, rainfall, and sea level rise. The DEIS provides a qualitative analysis of resources that may be impacted by changes in climate, such as freshwater resources, terrestrial ecosystems, coastal ecosystems, land use, human health, and environmental justice. It examines these impacts on the U.S. and on a global scale. In addition, the DEIS analyzes potential environmental impacts unrelated to climate change.

NHTSA invites Federal, State, and local agencies, Indian tribes, and the public to submit written comments and participate in a public hearing on the DEIS using the instructions set forth in this notice. As described in the PROCEDURAL MATTERS section of this notice, each speaker should anticipate speaking for approximately ten minutes, although we may need to adjust the time for each speaker if there is a large turnout. To facilitate review of the DEIS, NHTSA has posted the DEIS on its Web site, and it will be available in the Docket identified by the docket number at the beginning of this notice.¹ Copies in hard copy or electronic (CD-ROM) form have been mailed to all stakeholders on NHTSA's National Environmental Policy Act (NEPA) mailing list for the proposed CAFE standards, and NHTSA will mail a copy of the DEIS or a CD-ROM containing the Appendices to any other interested party who requests one. NHTSA will consider the public comments received on the DEIS in preparing final NEPA documents to support final CAFE standards for MY 2011-2015 passenger cars and light trucks, which NHTSA plans to issue later this year. The agency's NEPA analysis is informing NHTSA's development of those standards.

¹ The DEIS is available at: http://www.nhtsa.dot.gov/portal/site/nhtsa/menuitem.43ac99aefa80569eea57529cdba046a0/ (last visited June 26, 2008).

DATES: Public Hearing: The public hearing will be held on Monday, August 4, 2008, from 9 a.m. to 5 p.m. at the National Transportation Safety Board Conference Center, 429 L'Enfant Plaza, SW., Washington, DC 20594. NHTSA recommends that all persons attending the hearing arrive at least 45 minutes early in order to facilitate entry into the Conference Center. If you wish to attend or speak at the hearing, you must register in advance no later than Friday, July 25, 2008, by following the instructions in the PROCEDURAL MATTERS section of this notice. NHTSA will consider late registrants to the extent time and space allow, but NHTSA cannot ensure that late registrants will be able to attend or speak at the hearing.

Comments: NHTSA must receive written comments on the DEIS by Monday, August 18, 2008. NHTSA will try to consider comments received after that date to the extent the NEPA and rulemaking schedules allow, but NHTSA cannot ensure that it will be able to do so.

FOR FURTHER INFORMATION CONTACT: Ms. Carol Hammel-Smith, Telephone: 202-366-5206, or Mr. Michael Johnsen, Telephone: 202-366-0258, Fuel Economy Division, Office of International Vehicle, Fuel Economy and Consumer Standards, National Highway Traffic Safety Administration, 1200 New Jersey Avenue, SE., Washington, DC 20590. E-mail: nhtsa.nepa@dot.gov. Information about the CAFE rulemaking and the NEPA process is also available at http://www.nhtsa.dot.gov.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Room W12-140, 1200 New Jersey Avenue, SE., Washington, DC 20590.

• Hand Delivery or Courier: U.S. Department of Transportation, West Building, Ground Floor, Room W12-140, 1200 New Jersey Avenue, SE., Washington, DC, between 9 a.m. and 5 p.m. Eastern time, Monday through Friday, except Federal holidays.

• Fax: 202-493-2251.

Regardless of how you submit your comments, you should mention the docket number of this document.

You may call the Docket at 202-366-9324.

Note that all comments received, including any personal information, will be posted without change to http://www.regulations.gov.

SUPPLEMENTARY INFORMATION: NHTSA has prepared a Draft Environmental Impact Statement (DEIS) to disclose and analyze the potential environmental impacts of proposed Corporate Average Fuel Economy (CAFE) standards for model year (MY) 2011-2015 passenger cars and light trucks and a reasonable range of alternative standards.² NHTSA recently proposed the standards pursuant to amendments made by the Energy Independence and Security Act of 2007 (EISA) to the Energy Policy and Conservation Act (EPCA).³ To inform decisionmakers and the public, the DEIS analyzes the potential environmental impacts of the proposed standards and alternative standards reflecting a range of stringencies, and it analyzes direct, indirect, and cumulative impacts in proportion to their significance. The DEIS provides a detailed analysis of potential impacts on energy resources, air quality, and climate. The DEIS uses climate modeling and NHTSA's own computer model to provide quantitative estimates of potential impacts on air quality, CO2 emissions, global mean surface temperature, rainfall, and sea level rise. The DEIS provides a qualitative analysis of resources that may be impacted by changes in climate, such as freshwater resources, terrestrial ecosystems, coastal ecosystems, land use, human health, and environmental justice. It examines impacts on the U.S. and on a global scale. In addition, the DEIS analyzes potential environmental impacts unrelated to climate change.

² See National Environmental Policy Act (NEPA), 42 U.S.C. 4321-4347, and implementing regulations issued by the Council on Environmental Quality (CEQ), 40 CFR Pts. 1500-1508, and NHTSA, 49 CFR Pt. 520.

³ EISA is Public Law 110-140, 121 Stat. 1492 (December 19, 2007). EPCA is codified at 49 U.S.C. 32901 et seq.

Background. EPCA sets forth extensive requirements concerning the rulemaking to establish MY 2011-2015 CAFE standards. It requires the Secretary of Transportation ⁴ to establish average fuel economy standards at least 18 months before the beginning of each model year and to set them at “the maximum feasible average fuel economy level that the Secretary decides the manufacturers can achieve in that model year.” When setting “maximum feasible” fuel economy standards, the Secretary is required to “consider technological feasibility, economic practicability, the effect of other motor vehicle standards of the Government on fuel economy, and the need of the United States to conserve energy.” ⁵ NHTSA construes the statutory factors as including environmental and safety considerations.⁶ NHTSA also considers environmental impacts under NEPA when setting CAFE standards.

⁴ NHTSA is delegated responsibility for implementing the EPCA fuel economy requirements assigned to the Secretary of Transportation. 49 CFR 1.50, 501.2(a)(8).

⁵ 49 U.S.C. 32902(a), 32902(f).

⁶ See, e.g., Competitive Enterprise Inst. v. NHTSA, 956 F.2d 321, 322 (D.C. Cir. 1992) (citing Competitive Enterprise Inst. v. NHTSA, 901 F.2d 107, 120 n.11 (D.C. Cir. 1990)).

As recently amended, EPCA further directs the Secretary, after consultation with the Secretary of Energy (DOE) and the EPA Administrator, to establish separate average fuel economy standards for passenger cars and for light trucks manufactured in each model year beginning with model year 2011 “to achieve a combined fuel economy average for model year 2020 of at least 35 miles per gallon for the total fleet of passenger and non-passenger automobiles manufactured for sale in the United States for that model year.” ⁷ In doing so, the Secretary of Transportation is required to increase average fuel economy standards for MY 2011-2020 vehicles through “annual fuel economy standard increases.” ⁸ The standards for passenger cars and light trucks must be “based on 1 or more vehicle attributes related to fuel economy.” In any single rulemaking, standards may be established for not more than five model years.⁹ EPCA also mandates a minimum standard for domestically manufactured passenger cars.¹⁰

⁷ 49 U.S.C.A. §§ 32902(b)(1), 32902(b)(2)(A).

⁸ 49 U.S.C.A. § 32902(b)(2)(C).

⁹ 49 U.S.C.A. §§ 32902(b)(3)(A), 32902(b)(3)(B).

¹⁰ 49 U.S.C.A. § 32902(b)(4).

Earlier this year, NHTSA initiated the EIS process for MY 2011-2015 CAFE standards, which include light truck standards for one model year previously covered by a 2006 final rule establishing CAFE standards for MY 2008-2011 light trucks (namely, MY 2011).¹¹ We did so because a standard for MY 2011 must be issued by the end of March 2009 and achieving an industry-wide combined fleet average of at least 35 miles per gallon for MY 2020 depends, in substantial part, upon setting standards well in advance so as to provide the automobile manufacturers with as much lead time as possible to make the extensive necessary changes to their automobiles.

¹¹ See Average Fuel Economy Standards for Light Trucks Model Years 2008-2011; Final Rule, April 6, 2006.

The Proposed Action and Possible Alternatives: In its recent Notice of Proposed Rulemaking (NPRM), NHTSA proposed attribute-based (vehicle size) fuel economy standards for passenger cars and light trucks consistent with the “Reformed CAFE” approach NHTSA used to establish standards for MY 2008-2011 light trucks.¹² The NPRM proposes separate standards for MY 2011-2015 passenger cars and separate standards for MY 2011-2015 light trucks. This notice briefly describes the proposed standards and the alternatives, which the NPRM and the DEIS discuss in more detail.

¹² Average Fuel Economy Standards, Passenger Cars and Light Trucks; Model Years 2011-2015; Proposed Rule, 73 FR 24352, May 2, 2008.

Under the proposed standards, each vehicle manufacturer's required level of CAFE would be based on target levels of average fuel economy set for vehicles of different sizes and on the distribution of that manufacturer's vehicles among those sizes. Size would be defined by vehicle footprint.¹³ The level of the performance target for each footprint would reflect the technological and economic capabilities of the industry. The target for each footprint would be the same for all manufacturers, regardless of differences in their overall fleet mix. Compliance would be determined by comparing a manufacturer's harmonically averaged fleet fuel economy levels in a model year with a required fuel economy level calculated using the manufacturer's actual production levels and the targets for each footprint of the vehicles that it produces.

¹³ A vehicle's “footprint” is generally defined as “the product of track width [the lateral distance between the centerlines of the base tires at ground, including the camber angle] * * * times wheelbase [the longitudinal distance between front and rear wheel centerlines] * * * divided by 144. * * *” 49 CFR 523.2.

In developing the proposed standards and the alternatives, NHTSA considered the four EPCA factors underlying maximum feasibility (technological feasibility, economic practicability, the effect of other standards of the Government on fuel economy, and the need of the nation to conserve energy) as well as relevant environmental and safety considerations. NHTSA used a computer model (known as the “Volpe model”) that, for any given model year, applies technologies to a manufacturer's fleet until the manufacturer achieves compliance with the standard under consideration. In light of the EPCA factors, the agency placed monetary values on relevant externalities (both energy security and environmental externalities, including the benefits of reductions in carbon dioxide (CO2) emissions). As discussed in the NPRM, NHTSA also consulted with EPA and DOE regarding a wide variety of matters.

After assessing what fuel saving technologies would be available, how effective they are, and how quickly they could be introduced, NHTSA balanced the EPCA factors relevant to standard-setting. The agency used a marginal benefit-cost analysis to set the proposed standards at levels such that, considering the seven largest manufacturers, the cost of the last technology application equaled the benefits of the improvement in fuel economy resulting from that application. That is the level at which net benefits are maximized. Accordingly, NHTSA refers to the proposed standards as “optimized” standards or the “optimized scenario”. In considering further action on the proposed standards and reasonable alternatives, NHTSA also will consider its NEPA analysis.

NHTSA projects what the industry-wide average fuel economy level would be for passenger cars and for light trucks if each manufacturer produced its expected mix of automobiles and exactly met its obligations under the proposed “optimized” standards for each model year. For passenger cars, the average fuel economy (in miles per gallon, or mpg) would range from 31.2 mpg in MY 2011 to 35.7 mpg in MY 2015. For light trucks, the average fuel economy would range from 25.0 mpg in MY 2011 to 28.6 mpg in MY 2015. The combined industry-wide average fuel economy for all passenger cars and light trucks would range from 27.8 mpg in MY 2011 to 31.6 mpg in MY 2015, if each manufacturer exactly met its obligations under the standards proposed in the NPRM.¹⁴

¹⁴ NHTSA notes that it cannot set out the precise level of CAFE that each manufacturer would be required to meet for each model year under the proposed standards, because the level for each manufacturer would depend on that manufacturer's final production figures and fleet mix for a particular model year. That information will not be available until the end of each model year.

Under the proposed standards, the annual average increase during the five-year period from MY 2011-MY 2015 would be approximately 4.5 percent. The annual percentage increases would be greater in the early years due to the uneven distribution of new model introductions during this period and to the fact that significant technological changes can be most readily made in conjunction with those introductions.¹⁵ Pursuant to EISA's mandate, domestically manufactured passenger car fleets also must meet an alternative minimum standard for each model year. The alternative minimum standard would range from 28.7 mpg in MY 2011 to 32.9 mpg in MY 2015 under NHTSA's proposal.

¹⁵ With the proposed standards, the combined industry-wide average fuel economy would have to increase by an average of 2.1 percent per year from MY 2016-MY 2020 in order to reach EISA's goal of at least 35 mpg by MY 2020. In addition, the NPRM and the DEIS discuss flexibility mechanisms available to manufacturers to meet their obligations.

In addition to the proposed standards, NHTSA has considered several regulatory alternatives for purposes of both Executive Order 12,866 ¹⁶ and its NEPA analysis, which includes a “no action” alternative as required by NEPA. The alternatives, in order of increasing stringency, are:

¹⁶ Exec. Order 12,866, “Regulatory Planning and Review,” 58 FR 51,735, October 4, 1993, as amended.

(1) A “no action” alternative of maintaining CAFE standards at the MY 2010 levels of 27.5 mpg and 23.5 mpg for passenger cars and light trucks, respectively.¹⁷ NEPA requires agencies to consider a “no action” alternative in their NEPA analyses, although the recent amendments to EPCA direct NHTSA to set new CAFE standards and do not permit the agency to take no action on fuel economy. (NHTSA also refers to this “no action” alternative as a “no increase” or “baseline” alternative.)

¹⁷ See 40 CFR 1502.2(e), 1502.14(d).

(2) An alternative reflecting standards that fall below the optimized scenario by the same absolute amount by which the “25 percent above optimized alternative” (described below) exceeds the optimized scenario. NHTSA refers to this as the “25 percent below optimized alternative”.

(3) An alternative reflecting the “optimized scenario”, the proposed standards based on applying technologies until net benefits are maximized.

(4) An alternative reflecting standards that exceed the optimized scenario by 25 percent of the interval between the optimized scenario and an alternative (described below) based on applying technologies until total costs equal total benefits. NHTSA refers to this alternative as the “25 percent above optimized alternative”.

(5) An alternative reflecting standards that exceed the optimized scenario by 50 percent of the interval between the optimized scenario and the alternative based on applying technologies until total costs equal total benefits. This alternative is known as the “50 percent above optimized alternative”.

(6) An alternative reflecting standards based on applying technologies until total costs equal total benefits (zero net benefits). This is known as the “TC=TB alternative”.

(7) A “technology exhaustion alternative” in which NHTSA applied all feasible technologies without regard to cost by determining the stringency at which a reformed CAFE standard would require every manufacturer to apply every technology estimated to be potentially available for its MY 2011-2015 fleet. Accordingly, the penetration rates for particular technologies would vary on an individual manufacturer basis. NHTSA has presented this alternative in order to explore how the stringency of standards would vary based solely on the potential availability of technologies at the individual manufacturer level without regard to the costs to society.

Under NEPA, the purpose of and need for an agency's action inform the range of reasonable alternatives to be considered in its NEPA analysis.¹⁸ NHTSA believes that these alternatives represent a reasonable range of stringencies to consider for purposes of evaluating the potential environmental impacts of proposed CAFE standards under NEPA, because these alternatives represent a wide spectrum of potential impacts ranging from the current standards to standards based on the maximum technology expected to be available over the period necessary to meet the statutory goals of EPCA, as amended by EISA.¹⁹ However, as discussed in the NPRM and in the DEIS, NHTSA's provisional analysis of these alternatives suggests that some of them may not satisfy the four EPCA factors that NHTSA must apply in setting “maximum feasible” CAFE standards (i.e., technological feasibility, economic practicability, the effect of other motor vehicle standards of the Government on fuel economy, and the need of the nation to conserve energy).

¹⁸ 40 CFR 1502.13.

¹⁹ Given EPCA's mandate that NHTSA consider specific factors in setting CAFE standards and NEPA's instruction that agencies give effect to NEPA's policies “to the fullest extent possible,” NHTSA recognizes that a very large number of alternative CAFE levels are potentially conceivable and that the alternatives described above essentially represent several of many points on a continuum of alternatives. Along the continuum, each alternative represents a different way in which NHTSA conceivably could assign weight to each of the four EPCA factors and NEPA's policies. CEQ guidance instructs that “[w]hen there are potentially a very large number of alternatives, only a reasonable number of examples, covering the full spectrum of alternatives, must be analyzed and compared in the EIS.” CEQ, Forty Most Asked Questions Concerning CEQ's National Environmental Policy Act Regulations, 46 FR 18026, 18027, March 23, 1981 (emphasis original).

The NEPA Process and the DEIS. In March 2008, NHTSA issued a notice of intent to prepare an EIS for the MY 2011-2015 CAFE standards and opened the NEPA “scoping” process. In that notice, NHTSA described the statutory requirements for the proposed standards, provided initial information about the NEPA process, and initiated scoping by requesting public input on the scope of NHTSA's NEPA analysis for the proposed standards.²⁰ In April 2008, NHTSA published a supplemental scoping notice providing additional guidance for participating in the scoping process and additional information about the proposed standards and the alternatives NHTSA expected to consider in its NEPA analysis.²¹ NHTSA also outlined its plans for its NEPA analysis.²² NHTSA mailed both Federal Register notices to hundreds of stakeholders and developed a mailing list of interested parties, including Federal agencies with environmental expertise, the Governors of every State and U.S. territory or State NEPA contacts they identified, Indian tribes, organizations representing state and local governments and tribes, the automobile industry, environmental organizations, and other stakeholders interested in the CAFE program. NHTSA received 1,748 comment letters in response to its scoping notices. NHTSA received 11 individual letters commenting on the scope of its NEPA analysis from federal and state agencies, automobile trade associations, environmental organizations, and individuals. The remaining comment letters are form letters from individuals.

²⁰ See Notice of Intent to Prepare an Environmental Impact Statement for New Corporate Average Fuel Economy Standards, 73 FR 16615, March 28, 2008.

²¹ Supplemental Notice of Public Scoping for an Environmental Impact Statement for New Corporate Average Fuel Economy Standards, 73 FR 22913, April 28, 2008.

²² Id. at 22916.

In developing the DEIS, NHTSA also consulted with Federal agencies including: CEQ; EPA and the Centers for Disease Control and Prevention (CDC) of the U.S. Department of Health and Human Services, both of which submitted scoping comments to NHTSA; the National Oceanic and Atmospheric Administration (NOAA) within the U.S. Department of Commerce; the U.S. Fish and Wildlife Service and the National Park Service within the U.S. Department of the Interior; and the U.S. Forest Service within the U.S. Department of Agriculture.

NHTSA used the scoping process to help determine “the range of actions, alternatives, and impacts to be considered” in the DEIS and to identify the most important issues for analysis.²³ The DEIS consists of a Summary and ten chapters: (1) Purpose and Need for the Proposed Action; (2) The Proposed Action and Alternatives; (3) Affected Environment and Consequences; (4) Cumulative Impacts; (5) Mitigation; (6) Unavoidable Adverse Impacts; Short-Term Uses and Long-term Productivity; Irreversible and Irretrievable Commitment of Resources; (7) Preparers; (8) References; (9) Distribution List; and (10) Index. Three appendices include sources identified in scoping comments (Appendix A), modeling data for air emissions and climate modeling (Appendix B); and a cost-benefit analysis excerpt from NHTSA's Preliminary Regulatory Impact Analysis (Appendix C).

²³ See 40 CFR §§ 1500.5(d), 1501.7, 1508.25.

The DEIS devotes the most detailed analysis to direct, indirect and cumulative impacts of the proposed standards and the alternatives on energy, air quality, and climate. Key findings concerning estimated potential impacts on CO2 emissions, global mean surface temperature, rainfall, and sea level rise include the following:

• Global CO2 Emissions Reductions. Over the 2010 to 2100 timeframe, the range of alternatives NHTSA analyzed would reduce global CO2 emissions (from all sources) by about 18 to 35 billion metric tons of CO2 (based on global emissions of 4.85 trillion metric tons of CO2). The alternatives would slow the expected increase in greenhouse gas (GHG) emissions from the transportation sector over this period.

• CO2 Concentration and Global Mean Surface Temperature: Estimates for CO2 atmospheric concentrations and global mean surface temperature vary considerably, depending on which global emissions scenario is used as a reference case. Temperature increases are sensitive to climate sensitivity. Yet, projected differences among the CAFE alternatives are small—i.e., CO2 concentrations as of 2100 are within 1.7 to 3.2 parts per million across alternatives, and temperatures are within 0.0006 to 0.012 °C across alternatives—regardless of reference scenario and climate sensitivity.

• Rainfall: The CAFE alternatives reduce temperature increases slightly and thus reduce increases in precipitation slightly, compared to the “No Action” alternative.

• Impact on Sea Level Rise: The impact on sea level rise from the alternatives is at the threshold of the climate model's reporting: The alternatives reduce sea level rise by 0.1 cm. Although the model does not report enough significant figures to distinguish between the effects of the alternatives, it is clear that the more stringent the alternative (i.e., the lower the emissions), the lower the temperature (as shown above), and the lower the sea level.

The DEIS provides a qualitative analysis of resources that may be impacted by changes in climate, such as freshwater resources, terrestrial ecosystems, coastal ecosystems, land use, human health, and environmental justice. It examines impacts on the U.S. and a global scale. In addition, the DEIS qualitatively examines the alternatives' non-climate change related direct, indirect and cumulative impacts on potentially affected resources. Such resources include: Water resources, biological resources, land use, hazardous materials, safety, noise, historic and cultural resources, and environmental justice.

Throughout the DEIS, NHTSA's analysis relies extensively on findings of the United National Intergovernmental Panel on Climate Change (IPCC) and the U.S. Climate Change Science Program (USCCSP), including those presented in the IPCC's Fourth Assessment Report: Climate Change 2007 and the USCCSP's Scientific Assessments of the Effects of Global Change on the United States and Synthesis and Assessment Products.²⁴ The DEIS also uses applicable CEQ regulations to acknowledge uncertainty and incomplete or unavailable information relevant to NHTSA's NEPA analysis.²⁵

²⁴ See generally http://www.ipcc.ch/ipccreports/assessments-reports.htm (last visited June 25, 2008) and http://www.climatescience.gov (last visited June 25, 2008).

²⁵ 40 CFR 1502.22; see 40 CFR 1502.21.

Procedural Matters: The public hearing will be open to the public with advanced registration for seating on a space-available basis. Individuals wishing to register to assure a seat in the public seating area should provide their name, affiliation, phone number, ande-mail address to Ms. Carol Hammel-Smith or Mr. Michael Johnsen using the contact information in the FOR FURTHER INFORMATION CONTACT section at the beginning of this notice no later than Friday, July 25, 2008. Should it be necessary to cancel the hearing due to an emergency or some other reason, NHTSA will take all available means to notify registered participants by e-mail or telephone.

The hearing will be held at a site accessible to individuals with disabilities. Individuals who require accommodations such as sign language interpreters should contact Ms. Carol Hammel-Smith or Mr. Michael Johnsen using the contact information in the FOR FURTHER INFORMATION CONTACT section above no later than Friday, July 25, 2008. Any written materials NHTSA presents at the hearing will be available electronically on the day of the hearing to accommodate the needs of the visually impaired. A transcript of the hearing and information received by NHTSA at the hearing will be placed in the docket for this notice at a later date.

How long will I have to speak at the public hearing?

Once NHTSA learns how many people have registered to speak at the public hearing, NHTSA will allocate an appropriate amount of time to each participant, allowing time for lunch and necessary breaks throughout the day. For planning purposes, each speaker should anticipate speaking for approximately ten minutes, although we may need to adjust the time for each speaker if there is a large turnout. To accommodate as many speakers as possible, NHTSA prefers that speakers not use technological aids (e.g., audio-visuals, computer slideshows). However, if you plan to do so, you must let Ms. Carol Hammel-Smith or Mr. Michael Johnsen know by Friday, July 25, 2008, using the contact information in the FOR FURTHER INFORMATION CONTACT section above. You also must make arrangements to provide your presentation or any other aids to NHTSA in advance of the hearing in order to facilitate set-up. During the week of July 28, NHTSA will post information on its Web site (http://www.nhtsa.dot.gov) indicating the amount of time allocated for each speaker and each speaker's approximate order on the agenda for the hearing.

How can I get a copy of the DEIS?

The DEIS is available on NHTSA's Web site at http://www.nhtsa.dot.gov/portal/site/nhtsa/menuitem.43ac99aefa80569eea57529cdba046a0/ (last visited June 26, 2008), and it will be available in the Docket identified by the docket number at the beginning of this notice. To request a hard copy or a CD-ROM of the DEIS, or to request a CD-ROM containing the Appendices, please contact Ms. Carol Hammel-Smith or Mr. Michael Johnsen using the contact information in the FOR FURTHER INFORMATION CONTACT section above.

How do I prepare and submit written comments?

It is not necessary to attend or to speak at the public hearing to be able to comment on the issues. NHTSA invites the submission of written comments on the DEIS which the agency will consider in preparing the final NEPA documents to support the new CAFE standards for MY 2011-2015 passenger cars and light trucks. Your comments must be written and in English. To ensure that your comments are correctly filed in the Docket, please include the docket number at the beginning of this notice in your comments.

Your primary comments cannot exceed 15 pages.²⁶ However, you may attach additional documents to your primary comments. There is no limit to the length of the attachments.

²⁶ 49 CFR 553.21.

Anyone is able to search the electronic form of all comments received into any of our dockets by the name of the individual submitting the comment (or signing the comment, if submitted on behalf of an association, business, labor union, etc.). You may review DOT's complete Privacy Act Statement in the Federal Register at 65 FR 19477, April 11, 2000, or you may visit http://www.regulations.gov.

If you wish Docket Management to notify you upon its receipt of your comments, enclose a self-addressed, stamped postcard in the envelope containing your comments. Upon receiving your comments, Docket Management will return the postcard by mail.

How do I submit confidential business information?

If you wish to submit any information under a claim of confidentiality, send three copies of your complete submission, including the information you claim to be confidential business information, to the Chief Counsel, National Highway Traffic Safety Administration, 1200 New Jersey Avenue, SE., Washington, DC 20590. Include a cover letter supplying the information specified in our confidential business information regulation (49 CFR Part 512).

In addition, send two copies from which you have deleted the claimed confidential business information to Docket Management, 1200 New Jersey Avenue, SE., West Building, Room W12-140, Washington, DC 20590, or submit them electronically, in the manner described at the beginning of this notice.

Will the agency consider late comments?

NHTSA will consider all comments that Docket Management receives before the close of business on the comment closing date indicated above under DATES. To the extent the NEPA and rulemaking schedules allow, NHTSA will try to consider comments that Docket Management receives after that date, but we cannot ensure that we will be able to do so.²⁷

²⁷ See 49 CFR 553.23.

Please note that even after the comment closing date, we will continue to file relevant information in the docket as it becomes available. Further, some commenters may submit late comments. Accordingly, we recommend that you periodically check the docket for new material. In addition, you may wish to check two separate dockets relating to the proposed CAFE standards: (1) Docket No. NHTSA-2008-0089, which accompanies NHTSA's NPRM; and (2) Docket No. NHTSA-2008-0069, which accompanies NHTSA's request for manufacturers' product plan information.²⁸

²⁸ Passenger Car Average Fuel Economy Standards—Model Years 2008—2020 and Light Truck Average Fuel Economy Standards—Model Years 2008-2020; Request for Product Plan Information, 73 FR 24190, May 2, 2008.

Comments and information submitted to these dockets may be relevant to NHTSA's NEPA analysis for the proposed CAFE standards.

Issued: June 27, 2008.
Ronald Medford,
Senior Associate Administrator for Vehicle Safety.

[FR Doc. 08-1406 Filed 6-30-08; 11:21 am]

BILLING CODE 4910-59-P